DEPARTMENT OF EDUCATION

34 CFR Chapter VI

[Docket ID ED-2015-OPE-0134]

Proposed Priorities and Definitions—Fulbright-Hays Group Projects Abroad Program—Short-Term Projects and Long-Term Projects

CFDA Numbers: 84.021A and 84.021B.

AGENCY: Office of Postsecondary Education, Department of Education.

ACTION: Proposed priorities and definitions.

SUMMARY: The Assistant Secretary for Postsecondary Education proposes priorities and definitions under the Fulbright-Hays Group Projects Abroad (Fulbright-Hays GPA) Program. The Assistant Secretary may use these priorities and definitions for competitions in fiscal year (FY) 2016 and later years. We take this action to focus Federal financial assistance on an identified national need. We intend the priorities to address a gap in the types of institutions, faculty, and students that have historically benefitted from international education opportunities.

DATES: We must receive your comments on or before April 11, 2016.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about these proposed regulations, address them to Reha Mallory, Office of Postsecondary Education, U.S. Department of Education, 400 Maryland Avenue SW., Room 3E213, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Reha Mallory. Telephone: (202) 453-7502 or by email: reha.mallory@ed.gov.

If you use a telecommunications device for the deaf or a text telephone, call the Federal Relay Service, toll free, at 1-800-877-8339.

SUPPLEMENTARY INFORMATION:

Invitation to Comment:

We invite you to submit comments regarding this notice. To ensure that your comments have maximum effect in developing the notice of final priorities and definitions, we urge you to identify clearly the specific proposed priority or definition that each comment addresses.

We invite you to assist us in complying with the specific requirements of Executive Orders 12866 and 13563 and their overall requirement of reducing regulatory burden that might result from these proposed priorities and definitions. Please let us know of any further ways we could reduce potential costs or increase potential benefits while preserving the effective and efficient administration of the program.

During and after the comment period, you may inspect all public comments about this notice by accessing Regulations.gov. You may also inspect the comments in room 3E203, 400 Maryland Avenue SW., Washington, DC 20202, between the hours of 8:30 a.m. and 4:00 p.m., Washington, DC time, Monday through Friday of each week except Federal holidays. Please contact the person listed under FOR FURTHER INFORMATION CONTACT.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The Fulbright-Hays GPA Program supports short-term and long-term overseas projects in training, research, and curriculum development in modern foreign languages and area studies for groups of teachers, undergraduate and graduate students, and faculty engaged in a common endeavor. Fulbright-Hays GPA short-term projects (GPA short-term projects) may include seminars, curriculum development, or group research or study. Fulbright-Hays GPA long-term projects (GPA long-term projects) support advanced overseas intensive programs that focus on the humanities, social sciences, or languages.

Program Authority: 22 U.S.C. 2452(b)(6).

Applicable Program Regulations: 34 CFR parts 662 and 664.

PROPOSED PRIORITIES:

This notice contains two proposed priorities, one for GPA short-term projects and one for GPA long-term projects.

Background:

The U.S. Department of Education administers the Fulbright-Hays GPA Program under the authority of section 102(b)(6) of the Mutual Educational and Cultural Exchange Act of 1961 (Fulbright-Hays Act), 22 U.S.C. 2452(b)(6). The J. William Fulbright Foreign Scholarship Board, which is presidentially appointed, sets policies and procedures for administering the program and exercises final approval over the selection of grantees and fellows for GPA short-term projects and GPA long-term projects.

The objective of the Fulbright-Hays GPA Program is the promotion, improvement, and development of modern foreign languages and area studies at varying levels of education. To help achieve this objective, the program provides opportunities for faculty, teachers, and undergraduate and graduate students to conduct individual and group projects overseas to carry out research and study in the fields of modern foreign languages and area studies.

There are three types of GPA short-term projects: (1) Short-term seminar projects of four to six weeks in length designed to increase the linguistic or cultural competency of U.S. students and educators by focusing on a particular aspect of area study, such as the culture of an area or country of study (34 CFR 664.11); (2) curriculum development projects of four to eight weeks in length that provide participants an opportunity to acquire resource materials for curriculum development in modern foreign language and area studies for use and dissemination in the United States (34 CFR 664.12); and (3) group research or study projects of three to twelve months in duration designed to give participants the opportunity to undertake research or study in a foreign country (34 CFR 664.13).

GPA long-term projects are advanced overseas intensive language projects ranging in duration from eight weeks to four years. GPA long-term projects are designed to take advantage of the opportunities present in the foreign country that are not present in the United States when providing intensive advanced foreign language training (34 CFR 664.14).

The Department's International Strategy for FY 2012-16, “Succeeding Globally Through International Education and Engagement,” available at http://www2.ed.gov/about/inits/ed/internationaled/international-strategy-2012-16.html (U.S. Department of Education, 2012), reflects our commitment to preparing students for a more globalized world, and to engaging with the international community in order to improve education. The International Strategy's first objective is to “increase the global competencies of all U.S. students, including those from traditionally disadvantaged groups.” (U.S. Department of Education, 2012, p.5). Minority-Serving Institutions (MSIs) and community colleges are heavily populated by students from traditionally disadvantaged groups. Twenty-five percent or more of all high school graduates of color, who often are first-generation college attendees, enroll in community colleges as a way to begin their foray into higher education (Edsource, 2008). Research data indicate that minority students are less likely to have access to, or consider, academic programs that provide the requisite training for careers in international service, including study abroad and area studies (Tillman, 2010). Among the barriers preventing these students from pursuing international studies are a lack of exposure to international opportunities and a lack of access to information, including information about international careers (Belyavina and Bhandari, 2011). In addition, traditionally disadvantaged students often have the idea that study abroad is not for them and is a privilege for rich students (Martinez, Ranjeet, and Marx, 2009).

Accordingly, the proposed priority for GPA short-term projects is intended to increase the number of applications from MSIs, community colleges, and new applicant institutions to provide access to life-changing opportunities that will prepare traditionally disadvantaged students for today's global economy. The proposed priority is designed to increase the number and types of students that benefit from these projects. By increasing applications from MSIs and community colleges, we expect these projects to benefit greater numbers of traditionally disadvantaged students.

To further support the Department's objective of increasing the global competencies of all U.S. students, the proposed priority would expand the reach of the GPA short-term and long-term overseas projects by encouraging applications from new applicant institutions—that is, institutions or entities that have not previously been awarded either a GPA short-term or long-term project grant. Over the years, the Fulbright-Hays GPA Program has received applications from the same pool of applicants. This priority is an attempt to encourage applications from institutions that have not been awarded a GPA grant.

The proposed priority for GPA short-term projects is intended to promote applications from State educational agencies (SEAs) in order to increase international learning opportunities for teachers and administrators from the corresponding State, who would work together on a research or curriculum development project that would benefit greater numbers of K-12 students. Historically, only a small number of SEAs have applied for GPA grants.

Furthermore, while existing programs provide some individual educators with opportunities for foreign language learning, study abroad, and other international studies, there are few systemic opportunities for groups of K-12 educators and administrators from a State or local district to work together on a research or curriculum development project intended to build global competencies in their students.

The proposed priority for GPA long-term projects is designed to increase the number of MSIs that become grantees under these projects, in order to increase their students' access to academic coursework, instructional activities, and training that would better prepare them for the 21st-century global economy, careers in international service, and for lifelong engagement with the diverse communities in which they live, whether at home or abroad.

Proposed Priorities:

Proposed Priority 1—Applications for GPA Short-term Projects from Selected Institutions and Organizations.

Applications for GPA short-term projects from the following types of institutions and organizations:

○ Minority-Serving Institutions (MSIs)

○ Community colleges

○ New applicants

○ State educational agencies (SEAs)

Proposed Priority 2—Applications for GPA Long-term Projects from Minority-Serving Institutions (MSIs).

Applications for GPA long-term advanced overseas intensive language training projects from MSIs.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 5.105(c)(1)).

PROPOSED DEFINITIONS: The Assistant Secretary proposes the following definitions for this program. We may apply one or more of these definitions in any year in which this program is in effect.

Background: We propose the following definitions to provide clarity for applicants addressing the proposed priorities. The proposed definitions for “community colleges,” “MSIs,” and “SEAs” are from section 312(f) of the Higher Education Act of 1965, as amended (HEA); sections 316 through 320 of part A of title III of the HEA; and 34 CFR 77.1, respectively. These proposed definitions will provide consistency across Department programs and will be familiar to applicants. For purposes of Proposed Priority 1, the proposed definition for “new applicant” is similar to the definition used in previous years and is designed to expand the reach of the GPA short-term projects to include institutions and entities that have not previously received a GPA grant.

Definitions:

Community college means an institution that meets the definition in section 312(f) of the HEA (20 U.S.C. 1058(f)); or an institution of higher education (as defined in section 101 of the HEA (20 U.S.C. 1001)) that awards degrees and certificates, more than 50 percent of which are not bachelor's degrees (or an equivalent).

Minority-serving institution (MSI) means an institution that is eligible to receive assistance under sections 316 through 320 of part A of title III, under part B of title III, or under title V of the HEA.

New applicant means any applicant that has not received a discretionary grant from the Department of Education under the Fulbright-Hays Act prior to the deadline date for applications under this program.

State educational agency (SEA) means the State board of education or other agency or officer primarily responsible for the supervision of public elementary and secondary schools in a State. In the absence of this officer or agency, it is an officer or agency designated by the Governor or State law.

Final Priorities and Definitions:

We will announce the final priorities and definitions in a notice in the Federal Register. We will determine the final priorities and definitions after considering responses to this notice and other information available to the Department. This notice does not preclude us from proposing additional priorities, requirements, definitions, or selection criteria, subject to meeting applicable rulemaking requirements.

Note: This notice does not solicit applications. In any year in which we choose to use one or more of these priorities and definitions, we invite applications through a notice in the Federal Register.

Executive Orders 12866 and 13563

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these proposed priorities and definitions only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: the public understands the Department's collection instructions, respondents can provide the requested data in the desired format, reporting burden (time and financial resources) is minimized, collection instruments are clearly understood, and the Department can properly assess the impact of collection requirements on respondents.

The application package associated with Proposed Priority 1—Applications for GPA Short-term Projects from Selected Institutions and Organizations—was previously approved by the Office of Management and Budget (OMB) under OMB control number 1840-0792. Proposed Priority 1 and the proposed definitions will not change the currently approved application package, or the approved burden for the application package associated with the short-term projects. However, the application package associated with Proposed Priority 2—Applications for GPA Long-term Projects from Minority-Serving Institutions (MSIs)—does not have a current OMB control number, and therefore, it will require OMB approval under 1840-xxxx. As required by the PRA, the Department is submitting to OMB, under OMB control number 1840-xxxx, an information collection clearance concurrently with the publication of this notice of proposed priorities and definition for long-term projects under CFDA number 84.021B.

We estimate that each applicant would spend approximately 100 hours of staff time to address the proposed priorities and definitions, prepare the application, and obtain necessary clearances. The total number of hours for all applicants will vary based on the number of applications. Based on the number of applications the Department received in response to the February 23, 2012 notice inviting applications, we expect to receive approximately 150 applications. We expect each applicant to require 100 hours to complete a GPA long-term project application. Accordingly, the total number of hours for all expected applicants is an estimated 15,000 hours. We estimate the total cost per hour of the staff who carry out this work to be $80.00 per hour. The total estimated cost for all applicants would be $1,200,000.00.

We have prepared an Information Collection Request (ICR) for this collection (1840-XXXX). If you want to review and comment on the ICR, please follow the instructions in the ADDRESSES section of this notice.

Note: The Office of Information and Regulatory Affairs in OMB and the Department of Education review all comments posted at www.regulations.gov.

In preparing your comments you may want to review the ICR, including the supporting materials, in www.regulations.gov by using the Docket ID number specified in this notice. This proposed collection is identified as proposed collection 1840-XXXX.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

Between 30 and 60 days after publication of this document in the Federal Register, OMB is required to make a decision concerning the collection of information contained in these proposed priorities and definitions. Therefore, to ensure that OMB gives your comments full consideration, it is important that OMB receives your comments on this ICR by April 11, 2016. This does not affect the deadline for your comments to us on the proposed priorities and definitions.

If your comments relate to the ICR for these proposed priorities and definitions, please specify the Docket ID number and indicate “Information Collection Comments” on the top of your comments.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 4, 2016.
Lynn B. Mahaffie,
Deputy Assistant Secretary for Policy, Planning and Innovation, Delegated the Duties of Assistant Secretary for Postsecondary Education.

[FR Doc. 2016-05412 Filed 3-9-16; 8:45 am]

BILLING CODE 4000-01-P